NATIONAL SCIENCE FOUNDATION ADVISORY

Advisory Committee for Social, Behavioral and Economic Sciences; Notice of Meeting

In accordance with Federal Advisory Committee Act (Pub. L. 92-463, as amended), the National Science Foundation announces the following meeting:

Name: Advisory Committee for Social, Behavioral and Economic Sciences (#1171)

Date/Time:

May 20, 2013; 9:00 a.m. to 5:15 p.m.

May 21, 2013; 9:00 a.m. to 12:15 p.m.

Place: National Science Foundation, 4201 Wilson Boulevard, Stafford I, Room 1235, Arlington, VA 22230

Type of Meeting: Open

Contact Person: Ms. Lisa Jones, Office of the Assistant Director, Directorate for Social, Behavioral and Economic Sciences, National Science Foundation, 4201 Wilson Boulevard, Room 905, Arlington, Virginia 22230, 703-292-8700

Summary of Minutes: May be obtained from contact person listed above.

Purpose of Meeting: To provide advice and recommendations to the National Science Foundation on major goals and policies pertaining to Social, Behavioral and Economic Sciences Directorate programs and activities.

Agenda:

Monday, May 20, 2013

• Directorate Update: Dr. Myron Gutmann.

• Report on BCS Committee of Visitors (COV).

• Report from SBE AC—Subcommittee on Youth Violence.

• Report from SBE AC—Subcommittee on Advancing SBE Survey Research.

• Discussion with NSF Leadership.

Tuesday, May 21, 2013

• Report from SBE AC—Subcommittee on the Future of the Science and Learning.

• Report from NSF Ad-hoc Advisory Committee on the CAREER Program.

• NSF Strategic Plan.

• Agenda for Future Meeting Dates, Assignments, Concluding Remarks.

Dated: April 24, 2013.
Susanne Bolton,
Committee Management Officer.

[FR Doc. 2013-10082 Filed 4-29-13; 8:45 am]

BILLING CODE 7555-01-P